DEPARTMENT OF TRANSPORTATION

Federal Transit Administration

FTA Fiscal Year 2025 Apportionments, Allocations, and Program Information

AGENCY: Federal Transit Administration (FTA), Department of Transportation (DOT).

ACTION: Notice.

SUMMARY: This notice announces the full-year apportionments and allocations for grant programs for Fiscal Year (FY) 2025 and provides contract authority.

FOR FURTHER INFORMATION CONTACT: For general information about this notice, contact John Bodnar, Acting Associate Administrator, Office of Program Management, at (202) 366-2053. Please contact the appropriate FTA Regional Office for any specific requests for information or technical assistance. FTA Regional Office contact information is available on FTA's website: https://www.transit.dot.gov/about/regional-offices/regional-offices. An FTA headquarters contact for each major program area is included in the discussion for that program in the text of this notice. FTA recommends stakeholders subscribe via: https://public.govdelivery.com/accounts/USDOTFTA/subscriber/new, to receive email notifications when new information is available.

SUPPLEMENTARY INFORMATION:

Table of Contents

I. Overview

II. FY 2025 Funding for FTA Programs

A. Funding Available Under the Full-Year Continuing Appropriations and Extensions Act, 2025

B. Oversight Takedown

C. FY 2025 Formula Apportionments Data and Methodology

III. FY 2025 Program Specific Information

A. Metropolitan and Statewide Transportation Planning Program (49 U.S.C. 5303 and 5305(d))

B. State Planning and Research Program (49 U.S.C. 5304 and 5305(e))

C. Consolidated Planning Grants

D. Urbanized Area Formula Program (49 U.S.C. 5307)

E. Fixed Guideway Capital Investment Grants Program (49 U.S.C. 5309)

F. Enhanced Mobility of Seniors and Individuals With Disabilities Program (49 U.S.C. 5310)

G. Formula Grants for Rural Areas Program (49 U.S.C. 5311)

H. Rural Transportation Assistance Program (49 U.S.C. 5311(b)(3))

I. Appalachian Development Public Transportation Assistance Program (49 U.S.C. 5311(c)(2))

J. Formula Grants for Public Transportation on Indian Reservations Program (49 U.S.C. 5311(j))

K. Public Transportation Innovation (49 U.S.C. 5312)

L. Technical Assistance and Workforce Development (49 U.S.C. 5314)

M. Public Transportation Emergency Relief Program (49 U.S.C. 5324)

N. Public Transportation Safety Program (49 U.S.C. 5329)

O. State of Good Repair Program (49 U.S.C. 5337)

P. Grants for Buses and Bus Facilities Program (49 U.S.C. 5339)

Q. Growing States and High-Density States Formula Factors (49 U.S.C. 5340)

R. Washington Metropolitan Area Transit Authority Grants

IV. FTA Procedures for FY 2025 Grants

A. Grant Application and Post Grant Management Procedures

B. Automatic Pre-Award Authority to Incur Project Costs

C. Letter of No Prejudice (LONP) Policy

D. FY 2025 Annual List of Certifications and Assurances

E. Civil Rights Requirements

V. Guidance Disclaimer

I. Overview

This notice provides updates of FTA's programs for FY 2025, announces funding from the Full-Year Continuing Appropriations and Extensions Act, 2025 (Pub. L. 119-4) and full-year apportionments and allocations for grant programs, and provides contract authority. This notice also highlights and provides specific information about FTA's statutory programs.

For each FTA program appropriated funds in the Full-Year Continuing Appropriations and Extensions Act, 2025, FTA also provides information on the Infrastructure Investment and Jobs Act (IIJA, Pub. L. 117-58) authorized funding levels for FY 2025, the basis for apportionment or allocation of funds, requirements specific to the program, period of availability of funds, and other program information. A separate section provides information on pre-award authority and other requirements and guidance applicable to FTA programs and grant administration. Finally, the notice includes references to tables on FTA's website showing amounts apportioned under the Full-Year Continuing Appropriations and Extensions Act, 2025, and approximately $6.1 billion in unobligated or carryover funding available in FY 2025 under certain discretionary and Congressionally directed programs carried out in accordance with prior and current authorization and appropriations acts.

II. FY 2025 Funding for FTA Programs

A. Funding Available Under the Full-Year Continuing Appropriations and Extensions Act, 2025

A total of $20,937,068,868 was appropriated for FY 2025, including funding from the Full-Year Continuing Appropriations and Extensions Act, 2025, and funding from IIJA advance appropriations.

Division A, Title I and Title XIII of the Full-Year Continuing Appropriations and Extensions Act, 2025, appropriated $16,687,068,868 for FY 2025, providing the authorized $14.28 billion from the Mass Transit Account; $45.6 million in Transit Infrastructure Grants, including $20 million for the Urbanized Area Passenger Ferry program with $5 million set aside for low or no emission ferries and related infrastructure, $1.5 million for the Bus Testing program, $3.6 million for several research programs, $0.5 million to assist tribal governments under the National Rural Transportation Assistance Program, and $20 million to the ferry service for rural communities program. The Full-Year Continuing Appropriations and Extensions Act, 2025, also appropriated an additional $7.5 million for technical assistance, workforce development and training funding, $150 million for the Washington Metropolitan Area Transit Authority and $2.2 billion for the Capital Investment Grant Program.

In addition, Division J, Title VIII of IIJA provided $4.25 billion in advance appropriations for FY 2025, including $1.6 billion for Capital Investment Grants; $950 million for the State of Good Repair program, $1.05 billion for the Low or No Emission program, $50 million for the Enhanced Mobility of Seniors and Individuals with Disabilities Program, $350 million for the All Stations Accessibility Program; $50 million for the Electric or Low-Emitting Ferry Program; and $200 million for Ferry Service for Rural Communities.

Current funding availability for each grant program is identified in Section IV of this notice and in Table 1 located on FTA's FY 2025 Apportionment web page: https://www.transit.dot.gov/funding/apportionments/current-apportionments.

B. Oversight Takedown

As authorized by 49 U.S.C. 5338(c), the following oversight takedowns of FTA programs will be applied: 0.5 percent of Metropolitan and Statewide Planning funds, 0.75 percent of Urbanized Area Formula funds, 1 percent of Fixed Guideway Capital Investment Grants funds, 0.5 percent of Formula Grants for the Enhanced Mobility of Seniors and Individuals with Disabilities, 0.5 percent of Formula Grants for Rural Areas, 1 percent of State of Good Repair Formula funds, 0.75 percent for Grants for Buses and Bus Facilities, and 1 percent of Capital and Preventive Maintenance Projects for Washington Metropolitan Area Transit Authority funds. The funds are used to provide necessary oversight activities, such as oversight of the construction of any major capital project receiving Federal transit assistance; to conduct State Safety Oversight, drug and alcohol, civil rights, procurement systems, management, planning certification, and financial reviews and audits, as well as evaluations and analyses of recipient-specific problems and issues; to provide technical assistance and correct deficiencies identified in compliance reviews and audits; and to support FTA's administrative expenses.

In addition, there remains a 2 percent administrative and oversight takedown from each of the advance appropriations provided under Division J, Title VIII of IIJA, except for the Fixed Guideway Capital Investment Grant takedown, which remains at 1 percent. One-half percent of the 2 percent administrative and oversight takedown is to be transferred to the U.S. DOT Office of the Inspector General (OIG).

C. Formula Apportionment Data and Methodology

1. Apportionment Tables

FTA published apportionment tables on its website for each program reflecting the full-year appropriations less oversight takedowns, as applicable. Tables displaying the funds available to eligible States, tribes, and urbanized areas have been posted to https://www.transit.dot.gov/funding/apportionments/current-apportionments. This website contains a page listing the apportionment and allocation tables for FY 2025, as well as links to prior year formula apportionment notices and tables, as well as the National Transit Database and Census data used to calculate the FY 2025 apportionments.

2. National Transit Database and Census Data Used in the FY 2025 Apportionments

The calculations for Sections 5307, 5311 (including 5311(j) Tribal Transit), 5329, 5337, and 5339 programs rely on the most recent transit service data reported to the National Transit Database (NTD). Any recipient or subrecipient of either Section 5307 or Section 5311 program funds is required to report to the NTD. All FTA grant recipients that own, operate, or manage transit capital assets must report their asset data to the NTD. Additionally, a number of transit operators report to the NTD on a voluntary basis.

The data used to determine the FY 2025 apportionments came from the 2023 NTD Report Year (RY), which corresponds to an agency's fiscal year. In cases where an apportionment is based on the age of the system, the age is calculated as of September 30, 2024, which was the last day before FY 2025 began. During the 2023 report year, the NTD collected data from nearly 3,000 reporters. This count is comprised of 999 urban reporters, 1,224 rural transit providers, 136 tribes, and 486 asset reporters. IIJA made a number of changes to NTD reporting requirements. FTA implemented these changes through two Federal Register notices published on February 23, 2023 (88 FR 11506), and March 3, 2023 (88 FR 13497). Some of the changes took effect beginning in NTD RY 2023 or 2024, while others took effect in calendar year 2023.

The 2020 Census data was used to determine population and population density for Sections 5303, 5304, 5305, 5307 and 5339 as well as rural population and rural land area for Section 5311. The formulas for Sections 5307, 5311, and 5311(j) include tiers where funding is allocated on the basis of the number of persons living in poverty, and the Section 5310 formula program allocates funding on the basis of the population of older adults and people with disabilities. The Census Bureau no longer publishes decennial Census data on persons living in poverty and persons with disabilities. As a result, since FY 2013, FTA has used the data for these populations available via the Census' American Community Survey (ACS). The NTD and Census data FTA used to calculate the apportionments associated with this notice can be found on FTA's web page: https://www.transit.dot.gov/funding/apportionments/formula-apportionments-data.

The FY 2025 apportionments were determined using data on low-income persons, persons with disabilities, and older adults from the most recent ACS data set, which was published in December 2023. As was the case in prior years, data on low-income persons comes from ACS Table B17024, “Age by Ratio of Income to Poverty Level in the Last Twelve Months,” and data on people with disabilities under 65 years old comes from ACS Table B18101, “Sex by Age by Disability Status.”

III. FY 2025 Program Specific Information

A. Metropolitan Planning Program (49 U.S.C. 5303 and 5305(d))

Section 5305(d) makes available Federal funding to support a cooperative, continuous, and comprehensive planning program for transportation investment decision-making at the metropolitan area level. The specific requirements of metropolitan transportation planning are set forth in 49 U.S.C. 5303 and in 23 CFR part 450, as incorporated by reference in 49 CFR part 613, Metropolitan and Statewide and Nonmetropolitan Planning.

1. Authorized Amounts

IIJA authorized $799 million over five years to provide financial assistance for metropolitan planning needs under Section 5303.

2. FY 2025 Funding Availability

Under the Full-Year Continuing Appropriations and Extensions Act, 2025, $163,308,011 is available to the Metropolitan Planning Program (MPP) (Section 5305(d) and (f)) to support metropolitan transportation planning activities set forth in Section 5303. The total amount apportioned for the MPP to States for use by metropolitan planning organizations (MPOs) is $162,491,471 as shown in the table below, after the deduction for oversight and the addition of reapportioned funds.

3. Period of Availability

The MPP funds apportioned in this notice are available for obligation during FY 2025, plus three additional fiscal years. Accordingly, funds apportioned in FY 2025 must be obligated in grants by September 30, 2028. Any FY 2025 apportioned funds that remain unobligated at the close of business on September 30, 2028, will revert to FTA for reapportionment under the MPP.

Metropolitan Planning Program—FY 2025
Total FY 2025 Appropriation Available | $163,308,011
Oversight Deduction | (816,540)
Total Apportioned | 162,491,471

For more information about the MPP, contact Ryan Long, Office of Planning and Environment at ryan.long@dot.gov.

B. State Planning and Research Program (49 U.S.C. 5304 and 5305(e))

Section 5305(e) provides financial assistance to States for statewide transportation planning and other technical assistance activities, including supplementing the technical assistance program provided through the MPP. The specific requirements of Statewide transportation planning are set forth in 49 U.S.C. 5304 and in 23 CFR part 450, as incorporated by reference in 49 CFR part 613, Metropolitan and Statewide and Nonmetropolitan Planning.

1. Authorized Amounts

IIJA authorized $167 million over five years to provide financial assistance for statewide and non-metropolitan planning and other technical assistance activities under Section 5304.

2. FY 2025 Funding Availability

In FY 2025, $34,114,633 is available to the State Planning and Research Program (SPRP) (Section 5305(e) and (f)). The total amount apportioned for the SPRP is $34,207,429 as shown in the table below, after the deduction for oversight.

3. Period of Availability

The SPRP funds apportioned in this notice are available for obligation during FY 2025, plus three additional fiscal years. Accordingly, funds apportioned in FY 2025 must be obligated in grants by September 30, 2028. Any FY 2025 apportioned funds that remain unobligated at the close of business on September 30, 2028, will revert to FTA for reapportionment under the SPRP.

Statewide Planning Program—FY 2025
Total Appropriation | $34,114,633
Oversight Deductions | (170,573)
Reapportioned Funds | 263,369
Total Apportioned | 34,207,429

States' apportionments for this program are displayed in Table 1 on the apportionments page on FTA's website: https://www.transit.dot.gov/funding/apportionments/current-apportionments.

For more information, contact Ryan Long, Office of Planning and Environment at ryan.long@dot.gov.

C. Consolidated Planning Grants

The Consolidated Planning Grants (CPG) Program allows States and MMPOs to merge funds from the FTA MPP and SPRP with FHWA Metropolitan Planning (PL) and State Planning and Research (SPR) funds into a single consolidated planning grant. Transferred planning funds can be awarded and administered by either FTA or FHWA. For further information on CPGs, contact Ann Souvandara, Office of Budget and Policy, FTA, at ann.souvandara@dot.gov.

D. Urbanized Area Formula Program (49 U.S.C. 5307)

The Urbanized Area Formula Grant Program provides Federal assistance for capital, planning, job access and reverse commute projects, and, in some cases, operating assistance for public transportation in urbanized areas. The specific requirements of this program are set forth in 49 U.S.C. 5307 and FTA Circular 9050.1A, “Urbanized Area Formula Grant Programs Guidance,” dated November 1, 2024, available at https://www.transit.dot.gov/regulations-and-programs/fta-circulars/urbanized-areas-formula-grant-programs-guidance.

1. Authorized Amounts

IIJA authorized $33.5 billion over five years to provide financial assistance for urbanized areas under Section 5307. Of the amounts authorized for Section 5307 in each year, $30 million is set aside for the competitive Passenger Ferry Grant Program, 0.75 percent is apportioned to eligible States for State Safety Oversight (SSO), and 0.75 percent is set aside for oversight.

2. FY 2025 Funding Availability

Under the Full-Year Continuing Appropriations and Extensions Act, 2025, $6,851,662,142 is available for the Urbanized Area Formula program. The total amount apportioned is $7,394,716,046 after deductions for the State Safety Oversight Program, Passenger Ferry Program, and oversight and the addition of Section 5340 and reapportioned funds as shown in the table below.

3. Period of Availability

Funds made available under Section 5307 are available for obligation during the year of apportionment plus five additional years. Accordingly, funds apportioned in FY 2025 must be obligated in grants by September 30, 2030. Any FY 2025 apportioned funds that remain unobligated at the close of business on September 30, 2030, will revert to FTA for reapportionment under the Urbanized Area Formula Program.

Urbanized Area Formula Program—FY 2025
Total Appropriation | $6,851,662,142
Oversight Deductions | (51,387,466)
State Safety Oversight Program | (51,387,466)
Passenger Ferry Program | (30,000,000)
Section 5340 High Density States | 372,387,459
Section 5340 Growing States | 301,096,803
Reapportioned Funds | 2,344,574
Total Apportioned | 7,394,716,046

For more information about the Urbanized Area Formula Grant Program, contact Thomas Wilson with the Office of Transit Programs, at thomas.wilson@dot.gov.

E. Fixed Guideway Capital Investment Grants Program (49 U.S.C. 5309)

The Fixed Guideway Capital Investment Grants (CIG) Program and Expedited Project Delivery (EPD) Pilot Program provide Federal assistance for new fixed guideway capital projects, small start projects, and core capacity improvement projects.

The specific requirements of this program are set forth in 49 U.S.C. 5309, 49 CFR part 611, and FTA's CIG Policy Guidance, available at: https://www.transit.dot.gov/funding/grant-programs/capital-investments/capital-investment-grants-program-regulations-guidance.

1. Authorized Amounts

IIJA authorized $15 billion to be appropriated over five years for the CIG program and the (EPD) Pilot Program, and provided an additional $8 billion in advance appropriations.

2. FY 2025 Funding Availability

For FY 2025, $3,805,000,000 is available for the CIG Program and the FAST Act Section 3005(b) EPD Pilot Program under the Full-Year Continuing Appropriations and Extensions Act, 2025 and the IIJA advance appropriations. The total amount available for projects is $3,766,950,000 as shown in the table below, after the deduction for oversight.

3. Period of Availability

Funding is available for four years, which is the fiscal year in which the amount is allocated to a project plus three additional years. Therefore, funds for a project allocated funding in FY 2025 must be obligated for the project by September 30, 2028. Section 5309 funds that remain unobligated after four fiscal years to the projects for which they were originally designated may be made available for other Section 5309 projects.

Capital Investment Grant Program—FY 2025
Total Appropriation | $3,805,000,000
Oversight Deduction | (38,050,000)
Total Apportioned | 3,766,950,000

For more information about the CIG program contact Peter Mazurek at peter.mazurek@dot.gov.

F. Enhanced Mobility of Seniors and Individuals With Disabilities Program (49 U.S.C. 5310)

The Enhanced Mobility of Seniors and Individuals with Disabilities Program provides capital and operating assistance to improve mobility for older adults and people with disabilities by removing barriers to transportation service and expanding transportation mobility options. The specific requirements of this program are set forth in 49 U.S.C. 5310 and FTA Circular 9070.1H, “Enhanced Mobility of Seniors and Individuals with Disabilities Program Guidance,” dated November 1, 2024, available at: https://www.transit.dot.gov/regulations-and-programs/fta-circulars/enhanced-mobility-seniors-and-individuals-disabilities.

1. Authorized Amounts

IIJA authorized $1.9 billion over five years for the Enhanced Mobility of Seniors and Individuals with Disabilities formula program, with an additional $250 million provided in advance appropriations.

2. FY 2025 Funding Availability

In FY 2025, $446,932,778 is appropriated for the program. A total of $443,948,114 is available for allocation after the oversight and administrative deduction.

3. Period of Availability

For Enhanced Mobility of Seniors and Individuals with Disabilities Program funds apportioned under this notice, the period of availability is the year of apportionment plus two additional years. Accordingly, funds apportioned in FY 2025 must be obligated in grants by September 30, 2027. Any FY 2024, apportioned funds that remain unobligated at the close of business on September 30, 2027, will revert to FTA for reapportionment among the States and urbanized areas.

Section 5310 Formula Program—FY 2025
Total Appropriation | $446,932,778
Oversight and Administrative | (2,979,664)
Transfer to OIG | (5,000)
Total Apportioned | 443,948,114

For more information about the Section 5310 program, contact Destiny Buchanan, Office of Transit Programs, at destiny.buchanan@dot.gov.

G. Formula Grants for Rural Areas Program (49 U.S.C. 5311)

The Rural Areas Program provides formula funding to States and federally recognized Indian tribes to support public transportation in areas with a population of less than 50,000. The specific requirements of this program are set forth in 49 U.S.C. 5311 and FTA Circular 9040.1H, “Rural Areas Formula Grant Programs Guidance,” dated November 1, 2024, available at https://www.transit.dot.gov/regulations-and-programs/fta-circulars/formula-grants-rural-areas-program-guidance.

1. Authorized Amounts

IIJA authorized $4.6 billion over five years to provide financial assistance by formula for rural areas under Section 5311 and three other programs: the Rural Transit Assistance Program (RTAP); the Appalachian Development Public Transportation Assistance Program (ADTAP); and the Tribal Transit Program (TTP). These separate programs are described in the Sections that follow.

2. FY 2025 Funding Availability

In FY 2025, $842,263,842 is available for formula grants within the Formula Grants for Rural Areas Program. The total amount apportioned to the program is $956,643,454 as shown in the table below, after the addition of Section 5340 Growing State apportionments, reapportioned funds, and the oversight deduction.

3. Period of Availability

The Rural Areas program funds apportioned in this notice are available for obligation during FY 2025 plus two additional years. Any FY 2025, apportioned funds that remain unobligated at the close of business on September 30, 2027, will revert to FTA for reapportionment under the Rural Areas program.

Formula Grants for Rural Areas Program—FY 2025
Total FY 2025 Appropriation | $842,263,842
Oversight Deduction | (469,244)
Section 5340 Growing States | 18,829,480
Reapportioned Funds | 229,376
Total Apportioned | 956,643,454

For more information about the Formula Grants for Rural Areas program, contact Matt Lange, Office of Transit Programs, at matthew.lange@dot.gov.

H. Rural Transportation Assistance Program (49 U.S.C. 5311(b)(3))

The RTAP provides funding to States to assist in the design and implementation of training and technical assistance projects, research, and other support services tailored to meet the needs of transit operators in rural areas. The specific requirements of this program are set forth in 49 U.S.C. 5311 and FTA Circular 9040.1H, “Rural Areas Formula Grant Programs Guidance,” dated November 1, 2024, available at https://www.transit.dot.gov/regulations-and-programs/fta-circulars/formula-grants-rural-areas-program-guidance.

1. Authorized Amounts

IIJA authorizes $91.6 million over five years to carry out the RTAP program. Of this amount, 15 percent is reserved for the competitive National RTAP (NRTAP) program.

2. FY 2025 Funding Availability

In FY 2025, $18,716,974 is available for the RTAP. In FY 2025, besides the $2.8 million takedown for NRTAP, an additional $500,000 was appropriated for technical assistance to Tribes through NRTAP. The total amount apportioned for RTAP is $15,981,225 as shown in the table below, after the deduction for NRTAP.

3. Period of Availability

The RTAP funds apportioned in this notice are available for obligation in FY 2025 plus two additional years, consistent with the Section 5311. Any FY 2025 apportioned funds that remain unobligated at the close of business on September 30, 2027, will revert to FTA for reapportionment under the Rural Areas program.

Rural Transportation Assistance Program—FY 2025
Total Appropriation | $18,716,974
National RTAP | (2,807,546)
Reapportioned Funds | 71,797
Total Apportioned | 15,981,225

For more information about RTAP contact Matt Lange, Office of Transit Programs, at matthew.lange@dot.gov.

I. Appalachian Development Public Transportation Assistance Program (49 U.S.C. 5311(c)(3))

The ADTAP provides additional funding to support public transportation in the Appalachian region. The specific requirements of this program are set forth in 49 U.S.C. 5311 and FTA Circular 9040.1H, “Rural Areas Formula Grant Programs Guidance,” dated November 1, 2024, available at https://www.transit.dot.gov/regulations-and-programs/fta-circulars/formula-grants-rural-areas-program-guidance.

1. Authorized Amounts

A total of $137.4 million is authorized over five years by the IIJA to support public transportation in the Appalachian region.

2. FY 2025 Funding Availability

In FY 2025, $28,075,461 million is available and apportioned to the program as shown in the table below.

3. Period of Availability

The ADTAP funds are available the year of apportionment plus two additional years, consistent with Section 5311. Any FY 2025 apportioned funds that remain unobligated at the close of business on September 30, 2027, will revert to FTA for reapportionment under the Rural Areas program.

Appalachian Development Public
Transportation Assistance Program—
FY 2025
Total FY 2025 Available | $28,075,461
Total Apportioned | 28,075,461

For more information about ADTAP, contact Matt Lange, Office of Transit Programs, at matthew.lange@dot.gov.

J. Formula Grants for Public Transportation on Indian Reservations Program (49 U.S.C. 5311(j))

The Public Transportation on Indian Reservations Program, also referred to as Tribal Transit Program (TTP), is funded as a takedown from the Section 5311 program. TTP funds are allocated to federally recognized American Indian Tribes and Alaskan Native Villages, groups and communities providing public transportation in rural areas for any purpose eligible under Section 5311, which includes capital, operating, planning, and job access and reverse commute projects. The specific requirements of this program are set forth in 49 U.S.C. 5311 and FTA Circular 9040.1H, “Rural Areas Formula Grant Programs Guidance,” dated November 1, 2024, available at: https://www.transit.dot.gov/regulations-and-programs/fta-circulars/formula-grants-rural-areas-program-guidance.

1. Authorized Funding

A total of $229 million is authorized over five years, of which $183.25 million is for a formula program and $45.8 million is for a competitive grant program.

2. FY 2025 Funding Availability

In FY 2025, $37,433,948 is available for TPP. The total apportioned amount for the formula program is $37,555,590 after the addition of reapportioned funds. The total apportioned amount for the competitive program is $9,358,487.

3. Period of Availability

Funding under the TTP is available for the year of apportionment or allocation plus two additional years, consistent with the Section 5311 program. Any FY 2025 formula funds that remain unobligated at the close of business on September 30, 2027, will revert to FTA for reapportionment under the TTP.

Public Transportation on Indian
Reservations Program Formula Grants—
FY 2025
Total FY 2025 Appropriation Available | $37,433,948
Reapportioned Funds | 121,642
Total Apportioned | 37,555,590
Public Transportation on Indian
Reservations Program Competitive
Grants—FY 2025
Total FY 2025 Appropriation Available | 9,358,487
Total Apportioned | 9,358,487

For more information about the TPP contact Sarah Clements, Office of Transit Programs at tribaltransit@dot.gov.

K. Public Transportation Innovation (49 U.S.C. 5312)

FTA's Public Transportation Innovation program includes three distinct research programs: (a) Research, Development, Demonstration, Deployment, and Evaluation (49 U.S.C. 5312(b)-(e)); (b) Low or No Emission Vehicle Component Assessment (LoNo CAP) (49 U.S.C. 5312(h)); and (c) Transit Cooperative Research (TCRP) (49 U.S.C. 5312(i)). The specific requirements of these programs are set forth in 49 U.S.C. 5312 and FTA Circular 6100.1E, “Research, Technical Assistance, and Training Programs: Application Instructions and Program Management Guidelines,” dated May 11, 2015, available at https://www.transit.dot.gov/regulations-and-guidance/fta-circular-61001e-research-technical-assistance-and-training-programs.

1. Authorized Funding

IIJA authorizes $192.8 million over five years.

2. FY 2025 Funding Availability

In FY 2025, $42,957,861 is available for the Public Transportation Innovation program. The total amounts apportioned to each subcomponent of the program is shown below in the table.

3. Period of Availability

FTA establishes the period in which the funds must be obligated to the project. If the funds are not obligated within that period of time, they revert to FTA for reallocation under the program.

Public Transportation Innovation Program—FY 2025
Research, Development, Demonstration, Deployment, and Evaluation | $30,578,174
Low or No Emission Vehicle Component Testing | 5,345,938
Transit Cooperative Research Program (TCRP) | 7,033,749
Total Apportioned | 42,957,861

For more information about the Public Transportation Innovation program, contact Dr. Maryam Allahyar Wyrick, Office of Research, Demonstration and Innovation at maryam.allahyar@dot.gov.

L. Technical Assistance and Workforce Development (49 U.S.C. 5314)

The Technical Assistance and Workforce Development program provides assistance to: (1) carry out technical assistance activities that enable more effective and efficient delivery of transportation services, foster compliance with Federal laws, and improve public transportation service; (2) develop standards and best practices for the transit industry; and (3) address public transportation workforce needs through research, outreach, training and the implementation of a frontline workforce grant program, and conduct training and educational programs in support of the public transportation industry. The specific requirements of this program are set forth in 49 U.S.C. 5314 and FTA Circular 6100.1E, “Research, Technical Assistance, and Training Programs: Application Instructions and Program Management Guidelines,” dated May 11, 2015, available at https://www.transit.dot.gov/regulations-and-guidance/fta-circular-61001e-research-technical-assistance-and-training-programs.

1. Authorized Amounts

IIJA authorizes $61.98 million over five years for technical assistance. Of this amount, $34.4 million is authorized for the National Transit Institute under Section 5314(c).

2. FY 2025 Funding Availability

The IIJA authorized $12,660,748 for FY 2025 for the Technical Assistance and Workforce Development program, as shown in the table below. The total amount apportioned for the program is $13,126,999 after the deduction of for National Transit Institute and the inclusion of $7,500,000 in additional appropriations under the Full-Year Continuing Appropriations and Extensions Act, 2025.

3. Period of Availability

FTA establishes the period in which the funds must be obligated to the project. If the funds are not obligated within that period of time, they revert to FTA for reallocation under the program.

Technical Assistance and Workforce Development Program—FY 2025
Technical Assistance, Standards Development & Human Resource Training | $12,660,748
National Transit Institute | (7,033,749)
Additional FY 2025 Appropriation | 7,500,000
Total Appropriated | 13,126,999

For more information about the Technical Assistance and Workforce Development program, contact Dr. Maryam Allahyar Wyrick, Office of Research, Demonstration, and Innovation at maryam.allahyar@dot.gov.

M. Public Transportation Emergency Relief Program (49 U.S.C. 5324)

FTA's Emergency Relief (ER) Program provides funding for public transportation expenses incurred as a result of an emergency or major disaster. The specific requirements of this program are set forth in 49 U.S.C. 5324 and FTA's “Emergency Relief Manual: A Reference Manual for States & Transit Agencies on Response and Recovery from Declared Disasters and FTA's Emergency Relief Program (49 U.S.C. 5324),” dated March 27, 2023, available at: https://www.transit.dot.gov/sites/fta.dot.gov/files/2023-03/FTA-Emergency-Relief-Manual-March-2023.pdf.

For more information, contact Thomas Wilson, Office of Program Management, at thomas.wilson@dot.gov.

N. Public Transportation Safety Program (49 U.S.C. 5329)

Section 5329(e)(6) provides formula funding to support States with rail fixed guideway public transportation systems to develop and carry out state safety oversight programs, and is referred to as FTA's State Safety Oversight (SSO) Program. The specific requirements of the SSO program are set forth in 49 U.S.C. 5329 and 49 CFR parts 670 and 674.

1. Authorized Amounts

A total of $251.6 million is authorized over five years for the SSO Program.

2. FY 2025 Funding Availability

In FY 2025, $51,387,466 is available for the SSO Program, which is 0.75 percent of the amount made available for Section 5307 grants. The total amount apportioned for the formula program is $51,551,125 after the addition of reapportioned funds, as shown in the table below.

3. Period of Availability

SSO Program funds are available for the year of apportionment plus two additional years. Any FY 2025 funds that remain unobligated as of September 30, 2027, will revert to FTA for reapportionment under the SSO Formula Grant Program.

Public Transportation Safety Program—
FY 2025
Total Appropriation | $51,387,466
Reapportioned Funds | 166,659
Total Apportioned | 51,551,125

For more information about the SSO program, contact Melonie Barrington, Office of Safety Review, at melonie.barrington@dot.gov.

O. State of Good Repair Program (49 U.S.C. 5337)

The State of Good Repair (SGR) Program provides capital assistance for maintenance, replacement, and rehabilitation projects of existing high intensity fixed guideway and high intensity motorbus systems to maintain a state of good repair. In addition, SGR grants are eligible for developing and implementing Transit Asset Management plans. The specific requirements of this program are set forth in 49 U.S.C. 5337 and FTA Circular 9050.1A, “Urbanized Area Formula Grant Programs Guidance,” dated November 1, 2024, available at https://www.transit.dot.gov/regulations-and-programs/fta-circulars/urbanized-areas-formula-grant-programs-guidance.

1. Authorized Amounts

IIJA authorized $18.39 billion over five years for the SGR Program, including $1.5 billion for the Rail Vehicle Replacement Program, and provided an additional $4.75 billion in advance appropriations.

2. FY 2025 Funding Availability

In FY 2025, $4,705,675,417 is available for the SGR Program. The total amount apportioned is $4,349,878,139 after the deductions for oversight and transfers to the Office of Inspector General, the set-aside for the Rail Vehicle Replacement Program, and the addition of reapportioned funds as shown in the table below. Of the total amount apportioned, $4,225,928,257 is available for the High Intensity Fixed Guideway Formula and $123,949,882 for the High Intensity Motorbus Formula.

3. Period of Availability

The SGR Program funds apportioned in this notice are available for obligation during FY 2025 plus three additional years. Accordingly, funds apportioned in FY 2025 must be obligated through grants by September 30, 2028. Any FY 2025, apportioned funds that remain unobligated at the close of business on September 30, 2028, will revert to FTA for reapportionment under the State of Good Repair Program.

State of Good Repair Formula Program—FY 2025
Total Appropriation | $4,705,675,417
Oversight Deductions | (56,461,754)
Transfer to OIG | (95,000)
Reapportioned Funds | 759,476
FY 2025 Rail Replacement Competitive Grant | (300,000,000)
Total Available to Apportion | 4,349,878,139
Total Available to High Intensity Fixed Guideway Formula | 4,225,928,257
Total Available to High Intensity Motorbus Formula | 123,949,882

For more information about the SGR program, contact Alexandra Galanti, Office of Transit Programs, at alexandra.galanti@dot.gov.

P. Grants for Buses and Bus Facilities Program (49 U.S.C. 5339)

The Buses and Bus Facilities Program provides funding to replace, rehabilitate, and purchase buses and related equipment as well as construct bus-related facilities. The specific requirements for this program are set forth in 49 U.S.C. 5339, FTA Circular 9050.1A, “Urbanized Area Formula Grant Programs Guidance,” dated November 1, 2024, available at: https://www.transit.dot.gov/regulations-and-programs/fta-circulars/urbanized-areas-formula-grant-programs-guidance, and FTA Circular 9040.1H, “Rural Areas Formula Grant Programs Guidance,” dated November 1, 2024, available at: https://www.transit.dot.gov/regulations-and-programs/fta-circulars/formula-grants-rural-areas-program-guidance.

1. Authorized Amounts

IIJA authorized a total of $5.5 billion over five years for the Section 5339 Program. IIJA provided an additional $5.25 billion over five years in advance appropriations for the Section 5339(c) Low or No Emission Program.

2. FY 2025 Funding Availability

For FY 2025, $2,250,495,863 is available for Grants for Buses and Bus Facilities. Of this amount: $643,923,309 is available for the Buses and Bus Facilities Formula Program after the deduction for oversight and the addition of reapportioned funds; $398,103,239 is available for the Buses and Bus Facilities Competitive Program after the takedowns for oversight and the Low or No Emission Program; and $1,105,512,334 (including advance appropriations) is available for the Low or No Emission Program after the takedowns for oversight and transfer to the OIG. These amounts are detailed in the table below.

3. Period of Availability

The Buses and Bus Facilities Formula Program funds apportioned in this notice are available for obligation during FY 2025 plus three additional years. Accordingly, funds apportioned in FY 2025 must be obligated in grants by September 30, 2028. Any FY 2025 apportioned funds that remain unobligated at the close of business on September 30, 2028, will revert to FTA for reapportionment under the Buses and Bus Facilities Formula Program. Discretionary program funds authorized under Section 5339(b) and (c) (Bus Competitive and Low-No, respectively) follow the same period of availability: year of allocation to a project plus three additional years.

5339(a) Formula Grants for Buses and Bus Facilities
Total FY 2025 Appropriation Available | $645,781,441
Oversight Deduction | (4,843,361)
Reapportioned Funds | 2,985,229
Total Apportioned | 643,923,309
Section 5339(b) Competitive Grants for Buses and Bus Facilities
Total FY 2025 Appropriation Available | 478,202,088
Oversight Deduction | (3,586,515)
Less Section 5339(c) Low or No Emission Grants (Competitive) | (76,512,334)
Total Apportioned | 398,103,239
Section 5339(c) Low or No Emission Grants (Competitive)
Total FY 2025 Available | 1,126,512,334
Less FY 2025 Oversight and Admin | (20,895,000)
Less FY 2025 Transfer to OIG | (105,000)
Total Available for Allocation | 1,105,512,334

For more information about the Buses and Bus Facilities Formula and Competitive Programs, contact Kirsten Wiard-Bauer, Office of Transit Programs at kirsten.wiard-bauer@dot.gov.

Q. Growing States and High-Density States Formula Factors (49 U.S.C. 5340)

This program apportions funding based on growing States and high-density States formula factors as set forth in 49 U.S.C. 5340.

1. Authorized Amounts

IIJA authorized $3.879 billion over five years for the Growing States and High-Density States Formula program.

2. FY 2025 Funding Availability

In FY 2025, $792,313,742 is authorized and appropriated for apportionment in accordance with the formula factors prescribed for Growing States and High-Density States set forth in Section 5340 for FY 2025.

Growing States and High-Density States Formula Factors—FY 2025
5340 High Density States | $372,387,459
5340 Growing States | 419,926,283
Total Apportioned | 792,313,742

R. Washington Metropolitan Area Transit Authority Grants

This program provides capital and preventive maintenance grants to the Washington Metropolitan Area Transit Authority (WMATA).

1. Authorized Amounts

Section 601(f) of the Passenger Rail Investment and Improvement Act of 2008 (Pub. L. 110-432, div. B), as amended by IIJA, authorized $150 million per year for each of fiscal years of 2022 through 2030 for capital and preventive maintenance grants to WMATA.

2. FY 2025 Funding Availability

In FY2025, $150,000,000 is authorized for the program. The total amount available is $148,500,000 after the deduction for oversight as shown in the table below.

3. Period of Availability

Funds remain available until expended however application for these funds by the end of FY 2027 is encouraged.

Washington Metropolitan Area Transit Authority Grants—FY 2025
Total Appropriation | $150,000,000
Oversight Deduction | (1,500,000)
Total Apportioned | 148,500,000

IV. FTA Policy and Procedures for FY 2025 Grants

A. Grant Application and Post Grant Management Procedures

All grant applications are filed electronically. FTA continues to award and manage grants and cooperative agreements using the Transit Award Management System (TrAMS). To access TrAMS, contact your FTA Regional Office. Resources on using TrAMS can be found on FTA's website at https://www.transit.dot.gov/TrAMS. All recipients of FTA funds are required to report on their grants. Reports should demonstrate reasonable progress is being made on the project. FTA will continue to focus on closing or bringing into compliance inactive grants or grants that do not comply with reporting requirements. The requirements for application development, grant management, reporting and close-out procedures can be found in FTA Circular 5010.1F, “Award Management Requirements,” dated November 1, 2024, available at https://www.transit.dot.gov/regulations-and-programs/fta-circulars/award-management-requirements-circular.

B. Automatic Pre-Award Authority To Incur Project Costs

FTA provides pre-award authority to permit expenses to be incurred before a grant award for certain programs. Pre-award authority allows a recipient to incur certain project costs before the start date of an award and makes those costs allowable for subsequent reimbursement after award of the grant. Before incurring pre-award costs, recipients are strongly encouraged to consult with the appropriate FTA Regional Office regarding the eligibility of the project for future FTA funds and requirements that must be met to preserve the eligibility of the pre-award costs. This notice discusses pre-award authority for formula programs. FTA typically discusses pre-award authority for discretionary programs in the notices of funding opportunity (NOFO) that invite applications to those programs. For project sponsors progressing towards application for an award under FTA's Capital Investment Grants (CIG) program, FTA will provide specific, limited pre-award authority directly to the project sponsor.

By this notice, FTA continues to provide pre-award authority through the authorization period of IIJA (October 1, 2022, through September 30, 2026) for capital assistance under all formula programs, subject to the following:

1. Pre-award costs are allowable only to the extent they would have been allowed if incurred after the start date of the award. Therefore, pre-award costs must comply with all statutory, regulatory, and policy requirements as if they had been incurred after the date of the award. FTA's extension of pre-award authority is not a guarantee all costs a recipient incurs pre-award will be allowable.

2. No action will be taken by the recipient that prejudices the legal and administrative findings FTA must make in order to approve a project. The undertaking of certain activities (e.g., land acquisition, demolition, or construction) that would compromise FTA's ability to comply with Federal environmental review laws may render the project ineligible for FTA funding.

3. The Federal amount of any future FTA assistance awarded to the recipient for the project will be determined either as a fixed Federal amount or as a Federal share (percentage) of net project costs. Allowable pre-award costs will be reimbursed at the rate of the Federal share set in the award.

4. For funds to which the pre-award authority applies, the authority expires with the lapsing of the fiscal year funds.

5. When a grant for the project is subsequently awarded, the grant and the Federal Financial Report in TrAMS must show the use of pre-award authority and the recipient must submit an initial Federal Financial Report to associate the pre-award costs with the award.

6. Environmental Requirements—All Federal grant requirements must be met at the appropriate time for the project to remain eligible for Federal funding. Designated recipients may incur costs for design and environmental review activities for all formula funded projects from the date of the authorization of the formula funds. For projects that qualify for a categorical exclusion (CE) pursuant to 23 CFR 771.118(c), designated recipients may start activities and incur costs under pre-award authority for property acquisition, demolition, construction, and acquisition of vehicles, equipment, or construction materials from the date of the authorization of formula funds. FTA recommends that a grant applicant considering a CE pursuant to 23 CFR 771.118(c) contact the appropriate FTA Regional Office for assistance in determining the proper environmental review process, including other applicable environmental laws, and level of documentation necessary before incurring the above-mentioned costs. This applies especially when the grant applicant believes a “c-list” CE with construction activities, such as 23 CFR 771.118(c)(8), (9), (10), (12), or (13), applies to its project or if a grant applicant intends to acquire property through the use of pre-award authority.

If FTA subsequently finds a project does not qualify for a CE under 23 CFR 771.118(c) and the sponsor has already undertaken activities under pre-award authority that are only allowable for projects that qualify for a CE under 23 CFR 771.118(c), the project will be ineligible for FTA assistance. For all other non-CIG projects that do not qualify for a CE under 23 CFR 771.118(c), grant applicants may take action and incur costs for property acquisition, demolition, construction, and acquisition of vehicles, equipment, or construction materials from the date that FTA completes the environmental review process required by NEPA and its implementing regulations, 23 U.S.C. 139, and other environmental laws, by its issuance of a 23 CFR 771.118(d) CE determination, a finding of no significant impact (FONSI), a combined final environmental impact statement (FEIS)/record of decision (ROD), or a ROD. For projects funded by the CIG program, pre-award authority is specifically granted as described in the letter granting entry into the Project Development phase.

7. Federal procurement procedures, as well as the whole range of applicable Federal requirements (e.g., Buy America and the Build America, Buy America Act; Davis-Bacon Act; competitive procurements; Disadvantaged Business Enterprise), must be followed for projects in which Federal funding will be sought in the future. Failure to follow any such requirements could make the project ineligible for Federal funding.

C. Letter of No Prejudice (LONP) Policy

A Letter of No Prejudice (LONP) is a type of pre-award authority. An LONP allows an applicant to incur project costs before the start date of an award and makes those costs allowable for subsequent reimbursement after grant award. FTA uses LONPs to grant pre-award authority for projects and activities not covered by automatic pre-award authority (see above in this notice).

As with other uses of pre-award authority, the recipient assumes all risk for the costs it incurs under an LONP. FTA's issuance of an LONP is not a guarantee FTA will make an award to the recipient. FTA is not required to reimburse the recipient for pre-award costs incurred under an LONP if FTA does not ultimately make an award to the recipient or if the award is less than the recipient expected.

Typically, LONPs are used for sponsors with projects progressing towards application for an award under the Section 5309 CIG program when those sponsors undertake activities not covered under automatic pre-award authority. FTA also may use an LONP for a formula program if a recipient will incur costs beyond the expiration of the program's authorization or outside of FTA's grant of automatic pre-award authority. Unlike automatic pre-award authority, an LONP usually will be addressed to a specific recipient and will be limited to specific kinds of costs and a specific period of time.

The conditions and requirements for pre-award authority specified in Section IV.B of this notice above apply to all LONPs. Because some project implementation activities may not be initiated before completion of the federal environmental review process, FTA will not issue an LONP for such activities until the environmental review process has been completed with a combined FEIS/ROD, ROD, FONSI, or CE determination.

D. FY 2025 Annual List of Certifications and Assurances

Section 5323(n) requires FTA to annually publish a list of all certifications required under Chapter 53 concurrently with the publication of this annual apportionment notice. The FY 2025 version of FTA's Certifications and Assurances is available on FTA's website at https://www.transit.dot.gov/funding/grants/grantee-resources/certifications-and-assurances/fy2025-annual-list-certifications.

FTA cannot make an award or an amendment to an award unless the recipient has executed the latest version of FTA's Certifications and Assurances. FTA encourages recipients of formula funding to execute the FY 2025 Certifications and Assurances electronically in TrAMS early, to prevent delays processing their grant applications.

E. Civil Rights Requirements

Recipients must ensure their programs and services operate in a nondiscriminatory manner and fulfill reporting requirements to document their civil rights compliance as a condition to receiving Federal funds. Recipients must comply with the Americans with Disabilities Act (ADA) of 1990; Title VI of the Civil Rights Act of 1964 and implementing regulation at 49 CFR part 21; and the Department's Disadvantaged Business Enterprise (DBE) program regulation at 49 CFR part 26.

Recipients are encouraged to reach out to FTA when contemplating new projects, new services, or new service models for technical assistance and guidance, to support recipients in complying with Federal civil rights requirements. For more information about civil rights requirements, contact Nicholas Sun, Office of Civil Rights, at nicholas.sun@dot.gov.

V. Guidance Disclaimer

This guidance document is not legally binding in its own right, and FTA will not rely upon it as a separate basis for affirmative enforcement actions or other administrative penalty. Conformity with this document (as distinct from existing statutes and regulations) is voluntary only, and nonconformity will not affect rights and obligations under existing statutes and regulations.

Marcus J. Molinaro,
Administrator.

[FR Doc. 2025-17784 Filed 9-12-25; 8:45 am]

BILLING CODE 4910-57-P